SECURITIES AND EXCHANGE COMMISSION

Submission for OMB Review; Comment Request

Upon written request, copies available from: Securities and Exchange Commission, Office of Investor Education and Advocacy, Washington, DC 20549-0213.

Extension: Form T-6, OMB Control No. 3235-0391, SEC File No. 270-344.

Notice is hereby given that, pursuant to the Paperwork Reduction Act of 1995 (44 U.S.C. 3501 et seq.), the Securities and Exchange Commission (“Commission”) has submitted to the Office of Management and Budget a request for extension of the previously approved collection of information discussed below.

Form T-6 (17 CFR 269.9) is a statement of eligibility and qualification for a foreign corporate trustee under the Trust Indenture Act of 1939 (15 U.S.C. 77aaa et seq.). Form T-6 provides the basis for determining if the foreign corporate trustee is qualified. Form T-6 is filed on occasion. The information collected must be filed with the Commission and is publicly available. Form T-6 takes approximately 17 burden hours per response and is filed by approximately 15 respondents annually. We estimate that 25% of the 17 hours (4.25 hours) is prepared by the filer for an annual reporting burden of 64 hours (4.25 hours per response × 15 responses).

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503 or send an e-mail to Shagufta_Ahmed@omb.eop.gov; and (ii) Charles Boucher, Director/CIO, Securities and Exchange Commission, C/O Shirley Martinson, 6432 General Green Way, Alexandria, Virginia 22312; or send an e-mail to: PRA_Mailbox@sec.gov. Comments must be submitted to OMB within 30 days of this notice.

Dated: September 8, 2009.
Florence E. Harmon,
Deputy Secretary.

[FR Doc. E9-22247 Filed 9-15-09; 8:45 am]

BILLING CODE 8010-01-P